DEPARTMENT OF COMMERCE

U.S. Census Bureau

Notice of Correction to Federal Register Notice for Pilot of USPS Postal Carriers as Census Enumerators During 2018 End-to-End Census Test

AGENCY: U.S. Census Bureau, Commerce.

ACTION: Notice of correction.

SUMMARY: On September 20, 2017, the Census Bureau published a notice, Federal Register Document 2017-20036 (Federal Register Volume 82, Number 181, Pages 43934-43935), proposing to conduct a proof of concept study on the use of the United States Postal Service (USPS) Postal Carriers as Census Enumerators in conjunction with the 2018 End-to-End Census Test—Peak Operations. This notice corrects Federal Register Document 2017-20036 to cancel this collection after the Federal Register Notice was published for public comment.

SUPPLEMENTARY INFORMATION: The Census Bureau cancelled the proof of concept study after determining during discussions with USPS that postal carriers had certain disclosure obligations that made it impossible for them to comply with the strict legal confidentiality requirements under Title 13 governing Census data.

The Census Bureau received a total of twelve sets of comments on the initial Federal Register Notice posting, none of which were dispositive. Two sets of comments requested more information or materials about who would be performing enumeration in special situations, including deployed military and others living outside the country at the time of enumeration. The Census Bureau has special operations and procedures for enumeration of people in these situations, and the proposal for use of USPS Postal Carriers as Census Enumerators did not extend to special operations.

Three sets of comments generally expressed support for conducting the pilot. One commenter noted that mail carriers know their area of delivery and the people who live there, also expressing a general concern for the safety of those performing enumeration activities. Another commenter suggested that part-time carriers would be better as enumerators than full-time carriers due to schedule flexibility and hourly wages, as well as knowledge of more than one carrier route. The third commenter thought the idea was potentially good, but that care would be required in a nationwide implementation and that results from the pilot test would be important.

Seven sets of comments expressed concerns about using Postal Carriers to conduct enumeration activities. These comments generally noted that Postal Carriers already work full-time jobs, that Postal Carriers' familiarity with addresses does not necessarily translate into knowledge of the people living at those addresses, and that using Postal Carriers instead of Census employees would not be economically expedient. The latter comment also referenced a Government Accountability Office report that studied the use of Postal Carriers to conduct enumeration activities. Other commenters stated that Postal Carriers and Enumerators require different skill sets to perform in their respective positions and that using Postal Carriers for enumeration could endanger the public perception of Postal Carriers. Yet other comments stated that the test site was not representative of the communities that typically do not self-respond, that the relationship between Postal Carriers and their customers could affect the quality and completeness of data collected, and that enumerating a housing unit could alter the long-term relationship between Postal Carriers and the residents of that housing unit.

Sheleen Dumas,
Departmental Lead PRA Officer, Office of the Chief Information Officer.

[FR Doc. 2018-05874 Filed 3-21-18; 8:45 am]

BILLING CODE 3510-07-P